DEPARTMENT OF COMMERCE

National Oceanic and Atmospheric Administration

[I.D. 050702C]

Marine Mammals; File No. 984-1587

AGENCY: National Marine Fisheries Service (NMFS), National Oceanic and Atmospheric Administration (NOAA), Commerce.

ACTION: Issuance of permit amendment.

SUMMARY: Notice is hereby given that Dr. Terrie Williams, Department of Biology, University of California at Santa Cruz, Santa Cruz, CA 95064 has been issued an amendment to scientific research Permit No. 984-1587-00, as amended by Permit No. 984-1587-01. The permit number has been changed to 984-1587-02 to reflect that the permit has been amended.

ADDRESSES: The amendment and related documents are available for review upon written request or by appointment in the following office(s):

Permits, Conservation and Education Division, Office of Protected Resources, NMFS, 1315 East-West Highway, Room 13705, Silver Spring, MD 20910; phone (301) 713-2289; fax (301) 713-0376.

FOR FURTHER INFORMATION CONTACT: Amy Sloan or Ruth Johnson, (301) 713-2289.

SUPPLEMENTARY INFORMATION: On May 7, 2002, notice was published in the Federal Register (67 FR 30651) that an amendment of Permit No. 984-1587-00 had been requested by the above-named individual. The requested amendment has been granted prior to close of the public comment period under the authority of the Marine Mammal Protection Act of 1972, as amended (16 U.S.C. 1361 et seq.), and the Regulations Governing the Taking and Importing of Marine Mammals (50 CFR part 216), specifically, 50 CFR 216.33(e)(6) and 216.39(c), because delaying issuance of the permit amendment could result in loss of unique research opportunites.

The permit amendment authorizes extension of holding and research on three female California sea lions (Zalophus californianus) at Long Marine Laboratory to June 30, 2004; temporary holding of an adult male sea lion for research and breeding purposes; research on the three female sea lions while pregnant; and temporary holding of up to three pups. All procedures are performed voluntarily by the sea lions.

Dated: May 13, 2002.
Eugene T. Nitta,
Acting Chief, Permits, Conservation and Education Division, Office of Protected Resources, National Marine Fisheries Service.

[FR Doc. 02-12473 Filed 5-16-02; 8:45 am]

BILLING CODE 3510-22-S